ENVIRONMENTAL PROTECTION AGENCY

[FRL-6952-2]

Notice of Proposed Purchaser Agreement Pursuant to the Comprehensive Environmental Response, Compensation and Liability Act of 1980, as Amended by the Superfund Amendments and Reauthorization Act

AGENCY: Environmental Protection Agency (EPA).

ACTION: Notice; request for public comment.

SUMMARY: In accordance with the Comprehensive Environmental Response, Compensation, and Liability Act of 1980, as amended by the Superfund Amendments and Reauthorization Act of 1986 (“CERCLA”), 42 U.S.C. 9601-9675, notice is hereby given that a proposed purchaser agreement (“Purchaser Agreement”) associated with the Exeter Superfund Site (“Site”), City of Hopewell, Virginia was executed by the Environmental Protection Agency and the Department of Justice and is now subject to public comment, after which the United States may modify or withdraw its consent if comments received disclose facts or considerations which indicate that the Purchaser Agreement is inappropriate, improper, or inadequate. The Purchaser Agreement would resolve certain potential EPA claims under section 107 of CERCLA, 42 U.S.C. 9607, against the City of Hopewell, Virginia, and H.D.C., L.L.C. (“Purchasers”). The settlement would require the Purchasers to, among other things, (1) pay to EPA the sum of $50,000 within thirty (30) days of the effective date of the Purchaser Agreement, (2) remove and dispose of all remaining asbestos found on the Site, in compliance with all federal and state laws and regulations governing asbestos abatement.

For thirty (30) days following the date of publication of this notice, the Agency will receive written comments relating to the Purchaser Agreement. The Agency's response to any comments received will be available for public inspection at the U.S. Environmental Protection Agency, Region III, 1650 Arch Street, Philadelphia, PA 19103.

DATES: Comments must be submitted on or before April 18, 2001.

Availability: The Purchaser Agreement and additional background information relating to the Purchaser Agreement are available for public inspection at the U.S. Environmental Protection Agency, Region III, 1650 Arch Street, Philadelphia, PA 19103. A copy of the Purchaser Agreement may be obtained from Natalie L. Katz (3RC42), Assistant Regional Counsel, U.S. Environmental Protection Agency, 1650 Arch Street, Philadelphia, PA 19103. Comments should reference the “Exeter Superfund Site, Prospective Purchaser Agreement” and “EPA Docket No. CERC-PPA-2000-0005,” and should be forwarded to Natalie Katz at the above address.

FOR FURTHER INFORMATION CONTACT: Natalie L. Katz (3RC42), Assistant Regional Counsel, U.S. Environmental Protection Agency, 1650 Arch Street, Philadelphia, PA 19103, Phone: (215) 814-2615.

Dated: March 2, 2001.
Thomas C. Voltaggio,
Acting Regional Administrator, Region III.

[FR Doc. 01-6706 Filed 3-16-01; 8:45 am]

BILLING CODE 6560-50-P